DEPARTMENT OF AGRICULTURE

Forest Service

Commercial Pack Station and Pack Stock Outfitter/Guide Permit Issuance; Sierra National Forest; Fresno, Madera, and Mariposa Counties, CA

AGENCY: Forest Service, USDA.

ACTION: Notice of intent to prepare an environmental impact statement.

SUMMARY: The USDA Forest Service will prepare an environmental impact statement (EIS) to document and disclose the environmental impacts of a proposal to re-issue long term permits for a variety of commercial pack stock related activities to seven existing Resort Special Use Permit holders (commercial service supported by horse) and one existing Outfitter-Guide Special Use Permit Holder. The EIS will also designate a trail system and trail management objective for the Dinkey Lakes Wilderness. The services as proposed would occur on the Sierra National Forest in the Ansel Adams (AA), and John Muir (JM), and the non-wilderness portions of the Sierra National Forest. This EIS tiers to the Record of Decision that will be signed for the Trail and Commercial Pack Stock Management Plan Environmental Impact Statement for all activities and uses proposed in the AA and JM Wildernesses. Current activities provided by pack stations include full service guided trips (guide remains for the entire trip), dunnage trips (transport of material and supplies), spot trips (transport of people and supplies to a location and guide leaving), and day rides.

DATES: Comments concerning the scope of the analysis should be received no later than September 15, 2005. A draft environmental impact statement is expected to be published in February 2006, with public comment on the draft material requested for a period of 45 days. The final EIS is expected in August 2006.

ADDRESSES: Send written comments to Commercial Pack Station and Pack Stock Outfitter/Guide Permit Issuance, Sierra National Forest, 1600 Tollhouse Road, Clovis, CA 93611. Electronic comments may be sent to: comments-pacificsouthwest-sierra@fs.fed.us. Include “Commercial Pack Station and Pack Stock Outfitter/Guide Permit Issuance” in the subject line.

FOR FURTHER INFORMATION CONTACT: Kim Sorini-Wilson, Interdisciplinary Team Leader, Sierra National Forest, 29688 Auberry Road, Prather, CA 93651 (559) 855-5355 ext.3328.

SUPPLEMENTARY INFORMATION:

Purpose and Need for Action

There is a need for action on permit applications from seven resort pack stations and one existing Outfitter-Guide Special Use Permit holder to re-issue their term permits for their existing facilities, activities and uses, on all portions of the Sierra National Forest, including the AA, JM, and non-wilderness areas of the Sierra National Forest. The seven resort pack stations are: Yosemite Trails Pack Station, Inc., Miller Meadow Inc dba Minarets Pack Stations, D&F Stables, LLC, High Sierra Pack Station, Clyde Pack Outfitters and Lost Valley Pack Station. Muir Trail Ranch is an outfitter-guide based off of private property within the John Muir Wilderness and Florence Lake Resort is a resort located on the east end of Florence Lake.

This project is also needed to respond to a Court Order issued in 2001. The Court Order required that the Forest Service reevaluate the existing management direction and impacts of commercial pack stock operations on the Ansel Adams and John Muir Wildernesses prior to issuing permits for these operations. The court also ordered that the cumulative effects analysis be completed by December 2005 followed by a second NEPA process to issue individual special use permits by December 2006. The first planning effort—the Trail and Commercial Pack Stock Management in the Ansel Adams and John Muir Wildernesses EIS—will analyze the management direction and cumulative impacts of these operations. This Commercial Pack Station and Pack Stock Outfitter/Guide Permit Issuance EIS will respond to the portion of the Court Order requiring the second level of NEPA analysis related to the re-issuance of commercial pack station permits.

The purposes of the project is to continue to provide commerical pack stock services as a part of a wide range of available recreational activities available on the Sierra National Forest and to provide these services in a manner consistent with existing forest plan direction. In addition, this EIS will also designate a trail system and trail management objective for the Dinkey Lakes Wilderness.

The Final EIS (FEIS) and Record of Decision (ROD) for this project will tier to the Trail and Commercial Pack Stock Management in the John Muir/Ansel Adams FEIS and ROD. The Trail and Commercial Pack Stock FEIS and ROD will identify the levels and terms of commercial pack stock use in the AA and JM Wilderness. This Permit Issuance EIS will authorize these uses in the AA and JM Wildernesses as well as authorize uses on other areas of the Sierra National Forest.

Proposed Action

To meet the purpose and need, the Forest Service proposes to re-issue long term permits for a variety of commercial pack stock related activities to seven existing Resort Special Use Permit holders (commercial service supported by horse) and one existing Outfitter-Guide Special Use Permit holder. The proposed action authorizes the terms, conditions, and appropriate use levels for these activities. Specifically, the proposed action includes: (1) Pack station/outfitter guide-specific use authorizations in the AA and JM Wildernesses; (2) authorizations of pack station base facilities (including pastures and corrals) and boundaries; (3) location and authorization of front country (i.e., non-wilderness) day rides and activities; and (4) implementation of grazing/range readiness standards. The Proposed Action also contains a number of actions specific for each of the seven pack stations and one outfitter/guide analyzed in the Draft EIS. A more detailed description of the proposed action is available by contacting the project team leader.

Possible Alternatives

In addition to the Proposed Action, a No Action alternative, as required by NEPA will also be analyzed. The No Action alternative to be analyzed would allow for the natural expiration of current Pack Station special use permits with no new permits being issued.

Responsible Official

The responsible official is Edward C. Cole, Forest Supervisor, Sierra National Forest, 1600 Tollhouse Road, Clovis, CA 93611.

Nature of Decision To Be Made

Given the purpose and need, the deciding official reviews the proposed action, the other alternatives, and the environmental consequences in order to make the following decision: Whether to reissue the permits with modified terms and conditions, or not to authorize the uses and require removal of all facilities from public land.

Scoping Process

Public participation is an important part of this analysis. The Forest Service is seeking information, comments, and assistance from Federal, State, and local agencies, tribes, and other individuals or organizations who may be interested in or affected by the proposed action. Comments submitted during the scoping process should be in writing. They should be specific to the action being proposed and should describe as clearly and completely as possible any issues the commenter has with the proposal. This input will be used in preparation of the draft EIS.

To facilitate public participation, additional scoping opportunities will include a public scoping letter, meetings (dates and locations to be determined), newsletters, and information posted on the Sierra National Forest's Web sites.

Estimated Dates for the Draft and Final EIS

A draft environmental impact statement will be prepared for public comment. The comment period on the draft environmental impact statement will be 45 days from the date the Environmental Protection Agency publishes the notice of availability in the Federal Register.

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Teresa A. Drivas,
Acting Forest Supervisor, Sierra National Forest.

[FR Doc. 05-15696 Filed 8-8-05; 8:45 am]

BILLING CODE 3410-11-P